DEPARTMENT OF HOMELAND SECURITY

U.S. Citizenship and Immigration Services

[CIS No. 2395-06; DHS Docket No. USCIS-2006-0052]

RIN 1615-ZA41

Direct Mail Program for Submitting Form N-565, Application for Replacement Naturalization/Citizenship Document

AGENCY: U.S. Citizenship and Immigration Services, DHS.

ACTION: Notice.

SUMMARY: U.S. Citizenship and Immigration Services (USCIS) is expanding its Direct Mail Program to provide that filings of Form N-565, Application for Replacement Naturalization/Citizenship Document, be filed at a designated Service Center for processing. Applicants were previously required to file at a USCIS field office having jurisdiction over their place of current residence. The Direct Mail Program allows U.S. Citizenship and Immigration Services to more efficiently process applications by eliminating duplicative work, maximizing staff productivity, and introducing better information management tools. USCIS intends for this Direct Mail process to be implemented on February 26, 2007 and it will affect all applicants filing Form N-565.

DATES: This notice is effective February 26, 2007.

FOR FURTHER INFORMATION CONTACT: Leah Torino, HQ Adjudications Officer, Office of Field Operations, or Deanna Garner, Adjudications Officer, Office of Service Center Operations, U.S. Citizenship and Immigration Services, Department of Homeland Security, 20 Massachusetts Avenue, NW., Washington, DC 20529, Telephone (202) 272-1001 or (202) 272-1688.

Background

What is the Direct Mail program?

Under the Direct Mail program, applicants for certain immigration benefits mail the designated application or petition directly to a U.S. Citizenship and Immigration Services (USCIS) Service Center instead of submitting it to their local USCIS office. The purpose and strategy of the Direct Mail program have been discussed in detail on previous rulemakings and Notices (see 59 FR 33903 and 59 FR 33985).

What is Form N-565?

The Form N-565 is an application for replacement naturalization or citizenship documents. This form is used by individuals seeking a replacement Naturalization Certificate, Certificate of Citizenship, Declaration of Intention, or Repatriation Certificate, or to apply for a special certificate of naturalization as a U.S. citizen to be recognized by a foreign country.

Interested individuals may find eligibility requirements for Form N-565 as well as all other applications at the USCIS Web site: http://www.uscis.gov.

Explanation of Changes

Does this Notice change an alien's eligibility for issuance of a replacement naturalization or citizenship document?

No. This Notice only changes the filing location for these applications. These forms, previously filed at several locations nationwide, will now be filed under the Direct Mail Program at specified Service Centers.

What is the new filing location for Form N-565?

Effective February 26, 2007, those applicants residing in Alabama, Arkansas, Connecticut, Delaware, District of Columbia, Florida, Georgia, Kentucky, Louisiana, Mississippi, Maine, Maryland, Massachusetts, New Hampshire, New Jersey, New Mexico, New York, North Carolina, South Carolina, Oklahoma, Pennsylvania, Puerto Rico, Rhode Island, Tennessee, Texas, Virginia, Virgin Islands, Vermont and West Virginia, will forward their application to the Texas Service Center at: DHS/USCIS, Texas Service Center, PO Box 851182, Mesquite, TX 75185-1182.

Those individuals residing in Alaska, Arizona, California, Colorado, Guam, Hawaii, Idaho, Illinois, Indiana, Iowa, Kansas, Michigan, Minnesota, Missouri, Montana, Nebraska, Nevada, North Dakota, Ohio, Oregon, South Dakota, Utah, Washington, Wisconsin and Wyoming, will forward their application to the Nebraska Service Center at: DHS/USCIS, Nebraska Service Center, PO Box 87565, Lincoln, NE 68501-7565.

What will happen to Form N-565s that are filed at the wrong address?

USCIS will have a 30-day transition period, beginning February 26, 2007, through March 26, 2007, during which USCIS will automatically forward any locally filed Form N-565 to the correct designated Service Centers.

After March 26, 2007, all local USCIS offices will no longer accept any Form N-565 filings. Applications received by a local USCIS office after March 26, 2007, or received by an incorrect designated Service Center, will be returned to the applicant with accompanying fees for resubmission at the proper filing location.

Which version of the Form N-565 will USCIS accept?

As of February 26, 2007, USCIS will accept Form N-565 (edition date 09/29/06, OMB Control No. 1615-0091). Any prior versions submitted after March 26, 2007 will be returned to the applicant with accompanying fees for resubmission of the proper form edition.

Does this Direct Mail Notice affect Form N-565s that have already been filed with USCIS?

No. Applications received by a local USCIS office prior to February 26, 2007 will remain within the jurisdiction of that office for the completion of processing. Therefore, it is not necessary for individuals who previously filed an application at a local USCIS office to file a new application in connection with this change of procedure.

Paperwork Reduction Act

USCIS will be amending the instructions to the Form N-565 to reflect the new filing instructions. Accordingly, USCIS will provide the Office of Management and Budget with a copy of the amended form through the automated Regulatory Office Combined Information System (ROCIS). Changing the filing instructions will not have any affect on the reporting burden hours.

Dated: November 21, 2006.
Emilio T. Gonzalez,
Director, U.S. Citizenship and Immigration Services.

[FR Doc. E7-1131 Filed 1-24-07; 8:45 am]

BILLING CODE 4410-10-P